DEPARTMENT OF AGRICULTURE

Animal and Plant Health Inspection Service

[Docket No. APHIS-2024-0003]

Notice of Request for Approval of an Information Collection; Study To Understand Knowledge and Beliefs About Translocation of Wild Pigs

AGENCY: Animal and Plant Health Inspection Service, USDA.

ACTION: New information collection; comment request.

SUMMARY: In accordance with the Paperwork Reduction Act of 1995, this notice announces the Animal and Plant Health Inspection Service's intention to request approval of a new information collection associated with a study to understand knowledge and beliefs about translocation and release of wild pigs.

DATES: We will consider all comments that we receive on or before April 26, 2024.

ADDRESSES: You may submit comments by either of the following methods:

• Federal eRulemaking Portal: Go to www.regulations.gov. Enter APHIS-2024-0003 in the Search field. Select the Documents tab, then select the Comment button in the list of documents.

• Postal Mail/Commercial Delivery: Send your comment to Docket No. APHIS-2024-0003, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on this wild pig study, contact Dr. Keith Carlisle, Supervisory Social Scientist/Human Dimensions Unit Leader, National Wildlife Research Center, WS, APHIS, USDA, 4101 La Porte Ave, Fort Collins, CO 80521; (970) 266-6047; email: keith.m.carlisle@usda.gov. For more information on the information collection process, contact Mr. Joseph Moxey, APHIS' Paperwork Reduction Act Coordinator, at (301) 851-2533.

SUPPLEMENTARY INFORMATION:

Title: Study to Understand Knowledge and Beliefs about Translocation of Wild Pigs.

OMB Control Number: 0579-XXXX.

Type of Request: Approval of a new information collection.

Abstract: Under The Act of March 2, 1931 (7 U.S.C. 8351), the Secretary of Agriculture is authorized to conduct a program of wildlife services with respect to injurious animal species and take any action the Secretary considers necessary in conducting the program. Additionally, the Secretary of Agriculture is authorized to conduct activities to control nuisance mammals and birds (except for urban rodent control) and those mammals and bird species that are reservoirs for zoonotic disease. This authority has been delegated to the Animal and Plant Health Inspection Service (APHIS) Wildlife Services (WS). Two responsibilities of the Deputy Administrator of WS are to assist Federal, State, local, and foreign agencies and individuals with regard to wildlife damage and control and conduct research to develop wildlife damage management methods (7 CFR 371.6).

As part of WS, the mission of the National Feral Swine Damage Management Program is to protect agricultural and natural resources, property, animal health, and human health and safety by managing damage caused by wild pigs (Sus scrofa), also known as feral swine, feral hogs, wild hogs, and wild boar, in the United States and its territories. Wild pigs are an invasive species in the United States and are present in at least 35 States. The control of wild pig populations has become a State and national priority due to their propensity to damage agricultural commodities and infrastructure, transmit disease, affect ecological processes, and compete with native wildlife for resources. However, each State varies in its policy and management approaches to control wild pig populations based on numerous considerations, including its resource appropriations and stakeholder interests. Most States have issued restrictions on transporting and releasing wild pigs, an activity that may be undertaken to establish new populations for sport hunting purposes and has contributed to the expansion of wild pig populations over the last several decades. However, resources for enforcement in many States may be limited, and it is unclear whether hunters and members of the public are aware of these restrictions. It is therefore uncertain whether State law restrictions on wild pig translocation are having the intended effect.

Through the APHIS WS National Wildlife Research Center, a Federal institution devoted to resolving human-wildlife conflict, APHIS would like to conduct an online survey of hunters and members of the public in five southeastern States that would measure knowledge and beliefs about the transportation and release of wild pigs. Current information on knowledge and beliefs about the transportation and release of wild pigs is critical to identify potential conflicts and barriers to future management efforts of wild pig populations. APHIS anticipates that, among other things, results of the study may inform State efforts to provide targeted information where needed about State law restrictions on the translocation of wild pigs.

The information collection activity associated with the study consists of a multi-item questionnaire administered to both hunters and members of the public with primary residence in the State of Mississippi, Missouri, North Carolina, Oklahoma, or Tennessee.

We are asking the Office of Management and Budget (OMB) to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.40 hours per response.

Respondents: Hunters and members of the public whose primary residence is in the State of Mississippi, Missouri, North Carolina, Oklahoma, or Tennessee.

Estimated annual number of respondents: 6,667.

Estimated annual number of responses per respondent: 1.0.

Estimated annual number of responses: 6,667.

Estimated total annual burden on respondents: 2,667 hours. (Due to averaging, the total annual burden hours may not equal the product of the annual number of responses multiplied by the reporting burden per response.)

All responses to this notice will be summarized and included in the request for OMB approval. All comments will also become a matter of public record.

Done in Washington, DC, this 20th day of February 2024.
Michael Watson,
Administrator, Animal and Plant Health Inspection Service.

[FR Doc. 2024-03790 Filed 2-23-24; 8:45 am]

BILLING CODE 3410-34-P